DEPARTMENT OF COMMERCE

National Oceanic and Atmospheric Administration

[RTID 0648-XA710]

Fisheries of the Northeastern United States; Northeast Skate Complex Fishery; Supplemental Notice of Intent To Prepare an Environmental Impact Statement and Scoping Process

AGENCY: National Marine Fisheries Service (NMFS), National Oceanic and Atmospheric Administration (NOAA), Commerce.

ACTION: Supplemental notice of intent to prepare an environmental impact statement; public scoping meetings; request for comments.

SUMMARY: The New England Fishery Management Council is preparing an environmental impact statement for Amendment 5 to the Northeast Skate Complex Fishery Management Plan. Amendment 5 considers implementing a limited access program in the skate bait and/or wing fishery, as well as measures that may prevent the triggering of incidental skate possession limits, improve the precision and accuracy of catch data, and better define skate fishery participants. This notice alerts the public of a supplemental scoping period and the opportunity for public participation in that process.

DATES: Written scoping comments must be received on or before 5 p.m., local time, Friday, February 12, 2021. Two supplemental public scoping webinar meetings will be held during this comment period on January 21, 2021 and February 8, 2021. More information about the webinars is at: https://www.nefmc.org/library/amendment-5-3.

ADDRESSES: Written scoping comments on Amendment 5 may be sent by any of the following methods:

• Email to the following address: comments@nefmc.org;

• Mail to Thomas A. Nies, Executive Director, New England Fishery Management Council, 50 Water Street, Mill 2, Newburyport, MA 01950; or

• Fax to (978) 465-3116.

Please indicate “Skate Amendment 5 Supplemental Scoping Comment” on your correspondence. Requests for copies of the supplemental Amendment 5 scoping document and other information should be directed to Thomas A. Nies, Executive Director, New England Fishery Management Council, 50 Water Street, Mill 2, Newburyport, MA 01950, telephone (978) 465-0492. The supplemental scoping document is accessible electronically via the internet at https://www.nefmc.org/library/amendment-5-3.

FOR FURTHER INFORMATION CONTACT: Thomas A. Nies, Executive Director, New England Fishery Management Council, (978) 465-0492.

SUPPLEMENTARY INFORMATION:

Background

The New England Fishery Management Council (Council), working through its public participatory committee and meeting processes, anticipates the development of an amendment that may require an environmental impact statement (EIS) to meet applicable criteria in the Council on Environmental Quality (CEQ) regulations and guidance for implementing the National Environmental Policy Act (NEPA). In the development of Amendment 5 to the Northeast Skate Complex Fishery Management Plan (FMP), the Council has been considering limited access to the skate bait and/or wing fishery. NEPA reviews initiated prior to the effective date of the 2020 CEQ regulations may be conducted using the 1978 version of the regulations. The effective date of the 2020 CEQ NEPA regulations was September 14, 2020. The NEPA process for this action began with the initial scoping period and first notice of intent (NOI) (82 FR 825, January 4, 2017) in early 2017. Therefore, the development of this amendment will continue under the 1978 NEPA regulations.

The Northeast Skate Complex comprises seven species (barndoor, clearnose, little, rosette, smooth, thorny, and winter skate), managed as a single unit along the east coast from Maine to Cape Hatteras, North Carolina. The skate bait fishery primarily targets little skate, with a small catch component of winter skate. The wing fishery primarily targets winter skate.

The Council first conducted scoping for Amendment 5 in early 2017 (82 FR 825, January 4, 2017) to address concerns that increasingly strict regulations in other fisheries, particularly in the Northeast Multispecies (groundfish) fishery, might cause these fishermen to switch fishing effort onto skates. An increase in effort in the skate fishery could cause the fishery to attain its quota in a shorter time, trigger reduced skate trip limits, or have other negative economic impacts on current participants. The Council has been exploring the creation of a limited access skate permit as a potential solution to these concerns. In September 2020, the Council expanded the scope of this action by approving a problem statement, goals, and types of measures to consider in Amendment 5. In addition to limited access, the Council may consider measures such as creating an intermediate trigger for incidental limits, creating different landing limits for segments of the wing fishery, revising monitoring and reporting requirements, restricting switching between state and Federal fishing for the wing and/or bait fishery, modifying gear to reduce bycatch, making the Federal skate permit a year-round permit for the wing and/or bait fishery, or other measures related to the problem statement and intended to achieve the Amendment's goals. These measures could help improve the accuracy of fishery data and the long-term sustainable management of the skate fishery. Through the development of Amendment 5, the Council may also consider updates to the goal and objectives of the FMP, which are unchanged since the FMP was adopted in 2003. Following the supplemental scoping period, the Council, with input from the public, will develop a range of alternatives to address the problem statement and goals of this action. The supplemental scoping document has more information on Amendment 5 and the topics being considered during this supplementary scoping period (see ADDRESSES).

Public Comment

All persons interested in the management of the Northeast Skate Complex for either the wing and/or bait fishery are invited to comment on the scope and significance of issues to be analyzed by submitting written comments (see ADDRESSES) and/or by participating in either of the two supplemental scoping webinar meetings for this amendment (see DATES).

After the supplemental scoping period, there will be additional opportunities for public comment throughout the development of a range of alternatives for Amendment 5, and, if necessary, a draft EIS to analyze their impacts. In addition to scoping comments, the public will have the opportunity to comment on the alternatives being considered by the Council through public meetings on any proposed action.

Special Accommodations

The webinar meetings are accessible to people with physical disabilities. Requests for sign language interpretation or other auxiliary aids should be directed to Thomas A. Nies (see ADDRESSES) at least five days prior to the meeting dates.

Authority: 16 U.S.C. 1801 et seq.

Dated: December 18, 2020.
Jennifer M. Wallace,
Acting Director, Office of Sustainable Fisheries, National Marine Fisheries Service.

[FR Doc. 2020-28479 Filed 12-23-20; 8:45 am]

BILLING CODE 3510-22-P